ENVIRONMENTAL PROTECTION AGENCY

[FRL-6858-7]

Proposed Administrative Penalty Assessment and Opportunity to Comment Regarding Rego Trucking Limited, Inc.

AGENCY: Environmental Protection Agency (“EPA”).

ACTION: Notice of Proposed Assessment of Clean Water Act Class I Administrative Penalty and Opportunity to Comment.

SUMMARY: EPA is providing notice of a proposed administrative penalty assessment for alleged violations of the Clean Water Act (“Act”). EPA is also providing notice of opportunity to comment on the proposed assessment.

EPA is authorized under section 309(g) of the Act, 33 U.S.C. 1319(g), to assess a civil penalty after providing the person subject to the penalty notice of the proposed penalty and the opportunity for a hearing, and after providing interested persons notice of the proposed penalty and a reasonable opportunity to comment on its issuance. Under section 309(g), any person who without authorization discharges a pollutant to a navigable water, as those terms are defined in section 502 of the Act, 33 U.S.C. 1362, may be assessed a penalty in a “Class I” administrative penalty proceeding. Class I proceedings under section 309(g) are conducted in accordance with the “Consolidated Rules of Practice Governing the Administrative Assessment of Civil Penalties, Issuance of Compliance or Corrective Action Orders, and the Revocation, Termination or Suspension of Permits,” 40 CFR Part 22 (“Consolidated Rules”), published at 64 FR 40138, 40177 (July 23, 1999).

On February 10, 2000, EPA commenced a Class I penalty proceeding for the assessment of penalties by filing the following Complaint with Danielle Carr, Regional Hearing Clerk, U.S. EPA, Region IX, 75 Hawthorne Street, San Francisco, California 94105, (415) 744-1391:

In the matter of Rego Trucking Limited, Inc., Docket No. CWA-9-2000-0004, proposed penalty, up to $25,000; for the unauthorized discharge from Rego Trucking Limited, Inc., Kauai, Hawaii, during February, 1995, into a wetland identified as the “jailhouse swamp” on Kauai, Hawaii.

Procedures through which the public may submit written comment on a proposed Class I order or participate in a Class I proceeding, and the procedures by which a respondent may request a hearing, are set forth in the Consolidated Rules. The deadline for submitting public comment on a proposed Class I order is thirty (30) days after publication of this notice. The Regional Administrator of EPA, Region 9 may issue an order upon default if the respondent in the proceeding fails to file a response within the time period specified in the proposed Consolidated Rules.

FOR FURTHER INFORMATION: Persons wishing to receive a copy of the proposed Consolidated Rules, review the complaint, proposed consent order, or other documents filed in the proceeding, comment upon the proposed penalty, or participate in any hearing that may be held, should contact Danielle Carr, Regional Hearing Clerk, U.S. EPA, Region 9, 75 Hawthorne Street, San Francisco, CA 94105, (415) 744-1391. All information submitted by Rego Trucking Limited, Inc., is available as part of the administrative record, subject to provisions of law restricting public disclosure of confidential information. The file is available for inspection during normal business hours at the office of the Regional Hearing Clerk. In order for the opportunity to comment, EPA will not take final action in the proceeding prior to thirty days after issuance of this notice.

Dated: August 10, 2000.
Alexis Strauss,
Director, Water Division.

[FR Doc. 00-21916 Filed 8-25-00; 8:45 am]

BILLING CODE 5650-50-P